DEPARTMENT OF ENERGY

Federal Energy Regulatory Commission

[Docket No. RP00-304-001]

PG&E Gas Transmission, Northwest Corporation; Notice of Tariff Filing

June 27, 2000.

Take notice that on June 21, 2000, PG&E Gas Transmission, Northwest Corporation (PG&E GTN) tendered for filing as part of its FERC Gas Tariff, First Revised Volume No. 1-A: Substitute Twenty-fourth Revised Sheet No. 5. PG&E GTN requests that the above-referenced tariff sheet become effective July 1, 2000.

PG&E GTN asserts that the purpose of this filing is to correct an error in its fuel surcharge filing filed June 1, 2000 in this Docket. PG&E GTN states that the correction of the error will reduce PG&E GTN's proposed fuel surcharge to be in effect for the period July 1, 2000 through December 31, 2000 from 0.0015% per Dth per pipeline-mile to 0.0006% per Dth per pipeline-mile. Also included are revised workpapers showing the derivation of the corrected fuel surcharge.

PG&E GTN further states that a copy of this filing has been served on PG&E GTN's jurisdictional customers, interested state regulatory agencies, and all parties on the Commission's official service list for this proceeding.

Any person desiring to protect this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-16700 Filed 6-30-00; 8:45 am]

BILLING CODE 6717-01-M